NUCLEAR REGULATORY COMMISSION

[Docket Nos. 50-245, 50-336, and 50-423; NRC-2010-0128]

Dominion Nuclear Connecticut, Inc.; Millstone Power Station, Unit Nos. 1, 2, and 3; Environmental Assessment and Finding of No Significant Impact

The U.S. Nuclear Regulatory Commission (NRC) is considering issuance of an Exemption, pursuant to Title 10 of the Code of Federal Regulations (10 CFR) Section 73.5, “Specific exemptions,” from the implementation date for certain new requirements of 10 CFR Part 73, “Physical protection of plants and materials,” for Facility Operating License Nos. DPR-21, DPR-65, and NPF-49, issued to Dominion Nuclear Connecticut, Inc. (DNC or the licensee) for operation of Millstone Power Station, Unit Nos. 1, 2, and 3 (MPS1, MPS2, and MPS3, respectively), located in New London County, Connecticut. In accordance with 10 CFR 51.21, the NRC prepared an environmental assessment documenting its finding. The NRC concluded that the proposed actions will have no significant environmental impact.

Environmental Assessment

Identification of the Proposed Action

The proposed action would exempt MPS1, MPS2, and MPS3 from the required implementation date of March 31, 2010, for several new requirements of 10 CFR part 73. Specifically, MPS1, MPS2, and MPS3 would be granted an exemption from being in full compliance with certain new requirements contained in 10 CFR 73.55 by the March 31, 2010, deadline. DNC has proposed an alternate full compliance implementation date of September 30, 2010, approximately 6 months beyond the date required by 10 CFR part 73, for certain alarm station requirements. DNC has also proposed an alternate full compliance date of August 31, 2010, 5 months beyond the date required by 10 CFR part 73, for certain uninterruptible power supply requirements. The proposed action, an extension of the schedule for completion of certain actions required by the revised 10 CFR part 73, does not involve any physical changes to the reactor, fuel, plant structures, support structures, water, or land at MPS1, MPS2, and MPS3 site.

The proposed action is in accordance with the licensee's application dated January 12, 2010 (Agencywide Documents Access and Management System (ADAMS) Accession No. ML100131116), as supplemented by letter dated January 12, 2010 (ADAMS Accession No. ML100131115).

The Need for the Proposed Action

The proposed action is needed to provide the licensee with additional time to perform the required upgrades to the combined MPS1, MPS2, and MPS3 security system due to the procurement needs and installation activities.

Environmental Impacts of the Proposed Action

The NRC has completed its environmental assessment of the proposed exemption. The NRC staff has concluded that the proposed action to extend the implementation deadline would not significantly affect plant safety and would not have a significant adverse effect on the probability of an accident occurring.

The proposed action would not result in an increased radiological hazard beyond those previously analyzed in the environmental assessment and finding of no significant impact made by the Commission in promulgating its revisions to 10 CFR part 73 as discussed in a Federal Register notice dated March 27, 2009 (74 FR 13926). There will be no change to radioactive effluents that affect radiation exposures to plant workers and members of the public. Therefore, no changes or different types of radiological impacts are expected as a result of the proposed exemption.

The proposed action does not result in changes to land use or water use, or result in changes to the quality or quantity of non-radiological effluents. No changes to the National Pollution Discharge Elimination System permit are needed. No effects on the aquatic or terrestrial habitat in the vicinity of the plant, or to threatened, endangered, or protected species under the Endangered Species Act, or impacts to essential fish habitat covered by the Magnuson-Steven's Act are expected. There are no impacts to the air or ambient air quality.

There are no impacts to historical and cultural resources. There would be no impact to socioeconomic resources. Therefore, no changes to or different types of non-radiological environmental impacts are expected as a result of the proposed exemption.

Accordingly, the NRC concludes that there are no significant environmental impacts associated with the proposed action. In addition, in promulgating its revisions to 10 CFR part 73, the Commission prepared an environmental assessment and published a finding of no significant impact (74 FR 13926).

The NRC staff's safety evaluation will be provided in the exemption that will be issued as part of the letter to the licensee approving the exemption to the regulation, if granted.

Environmental Impacts of the Alternatives to the Proposed Action

As an alternative to the proposed action, the NRC staff considered denial of the proposed action (i.e., the “no-action” alternative). Denial of the exemption request would result in no change in current environmental impacts. If the proposed action was denied, the licensee would have to comply with the March 31, 2010, implementation deadline. The environmental impacts of the proposed exemption and the “no action” alternative are similar.

Alternative Use of Resources

The action does not involve the use of any different resources than those considered in the Final Environmental Statement (FES) for MPS1, dated June 1973, or the FES for MPS2, dated June 1973, as supplemented through the “Generic Environmental Impact Statement for License Renewal of Nuclear Plants: Millstone Power Station, Units 2 and 3—Final Report (NUREG-1437, Supplement 22),” or the FES for MPS3, NUREG-1064, dated December 1984, as supplemented through the “Generic Environmental Impact Statement for License Renewal of Nuclear Plants: Millstone Power Station, Units 2 and 3—Final Report (NUREG-1437, Supplement 22).”

Agencies and Persons Consulted

In accordance with its stated policy, on February 18, 2010, the NRC staff consulted with the Connecticut State official, Mr. Michael Firsick of the Connecticut Department of Environmental Protection regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated January 12, 2010, as supplemented by letter dated January 12, 2010. Portions of the submittal contain safeguards information and, accordingly, are not available to the public. Other parts of these documents may be examined, and/or copied for a fee, at the NRC's Public Document Room (PDR), located at One White Flint North, Room O-1 F21, 11555 Rockville Pike (first floor), Rockville, Maryland 20852. Publicly available records will be accessible electronically from the Agencywide Document Access and Management System (ADAMS) Public Electronic Reading Room on the Internet at the NRC Web site: http://www.nrc.gov/reading-rm/adams.html.

Persons who do not have access to ADAMS or who encounter problems in accessing the documents located in ADAMS should contact the NRC PDR Reference staff by telephone at 1-800-397-4209 or 301-415-4737, or send an e-mail to pdr.resource@nrc.gov.

Dated at Rockville, Maryland, this 19th day of March, 2010.
For The Nuclear Regulatory Commission.
Carleen J. Sanders,
Project Manager, Plant Licensing Branch I-2, Division of Operating Reactor Licensing, Office of Nuclear Reactor Regulation.

[FR Doc. 2010-6719 Filed 3-25-10; 8:45 am]

BILLING CODE 7590-01-P